DEPARTMENT OF ENERGY

Federal Energy Regulatory Commission

[Project No. 199-205]

Santee Cooper Hydroelectric Project; Notice of Availability of the Draft Environmental Impact Statement for the Santee Cooper Hydroelectric Project and Intention to Hold Public Meeting

March 23, 2007.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the application for a New Major License for the Santee Cooper Hydroelectric Project, and have prepared a draft environmental impact statement (DEIS) for the project which is located on the Santee and Cooper Rivers in Berkeley, Calhoun, Clarendon, Orangeburg, and Sumpter Counties, South Carolina.

The DEIS contains staff's analysis of the applicant's proposal and the alternatives for relicensing the Santee Cooper Hydroelectric Project. The DEIS documents the views of governmental agencies, non-governmental organizations, affected Indian tribes, the public, the license applicant, and Commission staff.

A copy of the DEIS is available for review at the Commission or may be viewed on the Commission's Web site at http://www.ferc.gov, using the “e-Library” link. Enter the docket number, excluding the last three digits, to access the document. For assistance, contact FERC Online Support at FERCOnlineSupport@ferc.gov or toll-free at (866)208-3676, or for TTY, contact (202)502-8659.

You may also register online at http://www.ferc.gov/docs-filing/esubscription.asp to be notified via e-mail of new filings and issuances related to this or other pending projects. For assistance, contact FERC Online Support.

Comments should be filed with Philis J. Posey, Acting Secretary, Federal Energy Regulatory Commission, 888 First Street, NE., Washington, DC 20426. All Comments must be filed within 60 days of the date of this notice, and should reference the Santee Cooper Hydroelectric Project, Project No. 199-205. Comments may be filed electronically via the internet in lieu of paper. The Commission strongly encourages electronic filings. See 18 CFR 385.2001(a)(1)(iii) and instructions on the Commission's Web site at http://www.ferc.gov under the eLibrary link.

Anyone may intervene in this proceeding based on this DEIS (18 CFR 380.10). You must file your request to intervene as specified above.¹ You do not need intervenor status to have your comments considered.

¹ Interventions may also be filed electronically via the Internet in lieu of paper. See the previous discussion on filing comments electronically.

In addition to or in lieu of sending written comments, you are invited to attend a public meeting that will be held to receive comments on the DEIS. The time and place of the meeting is as follows:

Date: Wednesday, May 2, 2007.

Time: 7:30 PM (EDT).

Place: Holiday Inn Express.

Address: 505 R.C. Dennis Blvd., Moncks Corner, SC.

At this meeting, resource agency personnel and other interested persons will have the opportunity to provide oral and written comments and recommendations regarding the DEIS. The meeting will be recorded by a court reporter, and all statements (verbal and written) will become part of the Commission's public records for the project. This meeting will be posted on the Commission's calendar located at http://www.ferc.gov/EventCalendar/Eventslist.aspx along with other related information.

For further information, please contact Monte TerHaar at (202) 502-6035 or at monte.terhaar@ferc.gov.

Philis J. Posey,
Acting Secretary.

[FR Doc. E7-5697 Filed 3-28-07; 8:45 am]

BILLING CODE 6717-01-P